NATIONAL COUNCIL ON DISABILITY

Sunshine Act Meetings

TIME AND DATE: The Members of the National Council on Disability (NCD) will hold a quarterly meeting on Thursday, May 10, from 9:00 a.m.-4:30 p.m., Central Time, in Houston, TX.

PLACE: This meeting will occur in Houston, TX, at the Hilton Americas-Houston, Lanier Grand Ballroom G (Level 4), 1600 Lamar Street, Houston, TX 77010. Interested parties may join the meeting in person at the meeting location or may join by phone in a listening-only capacity (other than the period allotted for public comment noted below) using the following call-in information: Teleconference number: 1-888-599-8667; Conference ID: 8134951; Conference Title: NCD Meeting; Host Name: Neil Romano.

MATTERS TO BE CONSIDERED: The Council will receive agency updates on policy projects, finance, governance, and other business. The Council will then receive a presentation on hurricane preparation, response, and recovery. Following that panel, the Council will receive an update on the work done to date for its 2018 Progress Report to Congress and the President, which this year will focus on monitoring and enforcement efforts in three federal agencies. Following a break for lunch, the Council will next receive presentations on guardianship issues in Texas; followed by education issues in Texas. Following those two panel presentations, the Council will receive a presentation on bioethics and disability. The meeting will conclude with a time for public comment.

Agenda: The times provided below are approximations for when each agenda item is anticipated to be discussed (all times Central):

Thursday, May 10

9:00-9:10 a.m.—Welcome and introductions

9:10-9:15 a.m.—Greetings from the Mayor's Office

9:15-9:20 a.m.—Greetings from former NCD Chair Lex Frieden

9:20-9:30 a.m.—Chairman's Report

9:30-9:35 a.m.—Executive Director's Report

9:35-10:05 a.m.—Business Meeting

10:05-10:20 a.m.—Break

10:20-11:20 a.m.—Hurricane Preparation, Response, and Recovery

11:20 a.m.-12:00 p.m.—2018 Progress Report

12:00-1:00 p.m.—LUNCH BREAK

1:00-2:00 p.m.—Guardianship Panel

2:00-2:15 p.m.—BREAK

2:15-3:15 p.m.—Education/Individuals with Disabilities Education Act Panel

3:15-4:00 p.m.—Bioethics and Disability

4:00-4:30 p.m.—Public comments (focused on NCD's newest policy priorities—elimination of 14c; institutionalization as a result of natural disaster; bioethics and disability; centralized accommodation funds for the federal government)

4:30 p.m.—Adjourn.

Public Comment: To better facilitate NCD's public comment, any individual interested in providing public comment is asked to register his or her intent to provide comment in advance by sending an email to PublicComment@ncd.gov with the subject line “Public Comment” with your name, organization, state, and topic of comment included in the body of your email. Full-length written public comments may also be sent to that email address. All emails to register for public comment at the quarterly meeting must be received by Wednesday, May 9, 2018. Priority will be given to those individuals who are in-person to provide their comments during the public comment period. Those commenters on the phone will be called on per the list of those registered via email. Due to time constraints, NCD asks all commenters to limit their comments to three minutes. Comments received at the May quarterly meeting will be limited to those regarding NCD's newest policy priorities—elimination of 14c; institutionalization as a result of natural disaster; bioethics and disability; centralized accommodation funds for the federal government.

CONTACT PERSON FOR MORE INFORMATION: Anne Sommers, NCD, 1331 F Street NW, Suite 850, Washington, DC 20004; 202-272-2004 (V), 202-272-2074 (TTY).

ACCOMMODATIONS: A CART streamtext link has been arranged for this meeting. The web link to access CART on Thursday, May 9, 2018 is: http://www.streamtext.net/player?event=NCD-QUARTERLY.

Those who plan to attend the meeting in-person and require accommodations should notify NCD as soon as possible to allow time to make arrangements. To help reduce exposure to fragrances for those with multiple chemical sensitivities, NCD requests that all those attending the meeting in person refrain from wearing scented personal care products such as perfumes, hairsprays, and deodorants.

Dated: April 24, 2018.
Sharon M. Lisa Grubb,
Acting Executive Director.

[FR Doc. 2018-08921 Filed 4-24-18; 4:15 pm]

BILLING CODE 8421-03-P